DEPARTMENT OF TRANSPORTATION

Federal Aviation Administration

14 CFR Part 39

[Docket No. FAA-2011-0530 Directorate Identifier 2011-CE-012-AD; Amendment 39-16770; AD 2011-17-06]

RIN 2120-AA64

Airworthiness Directives; SOCATA Airplanes

AGENCY: Federal Aviation Administration (FAA), Department of Transportation (DOT).

ACTION: Final rule.

SUMMARY: We are adopting a new airworthiness directive (AD) for SOCATA Model TBM 700 airplanes. This AD results from mandatory continuing airworthiness information (MCAI) issued by an aviation authority of another country to identify and correct an unsafe condition on an aviation product. The MCAI describes the unsafe condition as:

A TBM 700 operator reported a case of elevator trim tab actuator jamming once the trim tab arrived to stop.

The investigations conducted by the trim tab actuator manufacturer have shown that there was a discrepancy with PRECILEC manufacturing process of elevator trim tab actuator which caused this event. It has been determined as well that this discrepancy is limited to a batch of Serial Numbers (S/N).

If not detected and corrected, a jammed trim tab could lead to unusual control forces, resulting in lower controllability, particularly if combined with adverse flight conditions at landing.

We are issuing this AD to require actions to correct the unsafe condition on these products.

DATES: This AD becomes effective September 19, 2011.

On September 19, 2011, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

For service information identified in this AD, contact SOCATA—Direction des Services—65921 Tarbes Cedex 9—France; telephone +33 (0) 62 41 7300, fax +33 (0) 62 41 76 54, or for North America: SOCATA NORTH AMERICA, 7501 South Airport Road, North Perry Airport (HWO), Pembroke Pines, Florida 33023; telephone: (954) 893-1400; fax: (954) 964-4141; e-mail: mysocata@socata.daher.com; Internet: http://mysocata.com. You may review copies of the referenced service information at the FAA, Small Airplane Directorate, 901 Locust, Kansas City, Missouri 64106. For information on the availability of this material at the FAA, call (816) 329-4148.

FOR FURTHER INFORMATION CONTACT: Albert Mercado, Aerospace Engineer, FAA, Small Airplane Directorate, 901 Locust, Room 301, Kansas City, Missouri 64106; telephone: (816) 329-4119; fax: (816) 329-4090; e-mail: albert.mercado@faa.gov.

SUPPLEMENTARY INFORMATION:

Discussion

We issued a notice of proposed rulemaking (NPRM) to amend 14 CFR part 39 to include an AD that would apply to the specified products. That NPRM was published in the Federal Register on May 25, 2011 (76 FR 30295). That NPRM proposed to correct an unsafe condition for the specified products. The MCAI states:

A TBM 700 operator reported a case of elevator trim tab actuator jamming once the trim tab arrived to stop.

The investigations conducted by the trim tab actuator manufacturer have shown that there was a discrepancy with PRECILEC manufacturing process of elevator trim tab actuator which caused this event. It has been determined as well that this discrepancy is limited to a batch of Serial Numbers (S/N).

If not detected and corrected, a jammed trim tab could lead to unusual control forces, resulting in lower controllability, particularly if combined with adverse flight conditions at landing.

For the reasons described above, this AD requires the inspection of the elevators trim tab actuator P/N 6071017251 for identification of S/N and, in case of findings, the replacement of the affected ones with serviceable units.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 377 products of U.S. registry. We also estimate that it would take about 1 work-hour per product to comply with the basic requirements of this AD. The average labor rate is $85 per work-hour. Required parts would cost about $0 per product.

Based on these figures, we estimate the cost of the AD on U.S. operators to be $32,045, or $85 per product.

In addition, we estimate that any necessary follow-on actions would take about 7 work-hours and require parts costing $0, for a cost of $595 per product. We have no way of determining the number of products that may need these actions.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-17-06 SOCATA: Amendment 39-16770; Docket No. FAA-2011-0530; Directorate Identifier 2011-CE-012-AD.

Effective Date

(a) This airworthiness directive (AD) becomes effective September 19, 2011.

Affected ADs

(b) None.

Applicability

(c) This AD applies to SOCATA Model TBM 700 airplanes, serial numbers 1 through 530, certificated in any category.

Subject

(d) Air Transport Association of America (ATA) Code 27: Flight Controls.

Reason

(e) The mandatory continuing airworthiness information (MCAI) states:

A TBM 700 operator reported a case of elevator trim tab actuator jamming once the trim tab arrived to stop.

The investigations conducted by the trim tab actuator manufacturer have shown that there was a discrepancy with PRECILEC manufacturing process of elevator trim tab actuator which caused this event. It has been determined as well that this discrepancy is limited to a batch of Serial Numbers (S/N).

If not detected and corrected, a jammed trim tab could lead to unusual control forces, resulting in lower controllability, particularly if combined with adverse flight conditions at landing.

For the reasons described above, this AD requires the inspection of the elevators trim tab actuator P/N 6071017251 for identification of S/N and, in case of findings, the replacement of the affected ones with serviceable units.

Actions and Compliance

(f) Unless already done, do the following actions:

(1) Within 12 months after September 19, 2011 (the effective date of this AD), identify the serial number (S/N) of Left Hand and Right Hand PRECILEC elevator trim tab actuators following DAHER-SOCATA Mandatory Service Bulletin SB 70-190-27, dated January 2011.

(2) If, as a result of the inspection required by paragraph (f)(1) of this AD you find any affected elevator trim tab actuator as listed in DAHER-SOCATA Mandatory Service Bulletin SB 70-190-27, dated January 2011, installed on an airplane, before further flight, replace it with a serviceable part following DAHER-SOCATA Mandatory Service Bulletin SB 70-190-27, dated January 2011.

(3) After September 19, 2011 (the effective date of this AD), do not install on an airplane any PRECILEC elevator trim tab actuator part number 6071017251 with an S/N listed in DAHER-SOCATA Mandatory Service Bulletin SB 70-190-27, dated January 2011, unless it has been repaired in accordance with DAHER-SOCATA Mandatory Service Bulletin SB 70-190-27, dated January 2011.

Note 1: Trim tab actuators repaired by a service center are identified with screw green colored locking varnish as shown in figure 2 of DAHER-SOCATA Mandatory Service Bulletin SB 70-190-27, dated January 2011.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; e-mail: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(h) Refer to MCAI European Aviation Safety Agency (EASA) AD No.: 2011-0060, dated March 29, 2011 (Correction: March 30, 2011); and DAHER-SOCATA Mandatory Service Bulletin SB 70-190-27, dated January 2011, for related information.

Material Incorporated by Reference

(i) You must use DAHER-SOCATA Mandatory Service Bulletin SB 70-190-27, dated January 2011, to do the actions required by this AD, unless the AD specifies otherwise.

(1) The Director of the Federal Register approved the incorporation by reference of this service information under 5 U.S.C. 552(a) and 1 CFR part 51.

(2) For service information identified in this AD, contact SOCATA—Direction des Services—65921 Tarbes Cedex 9—France; telephone +33 (0) 62 41 7300, fax +33 (0) 62 41 76 54, or for North America: SOCATA NORTH AMERICA, 7501 South Airport Road, North Perry Airport (HWO), Pembroke Pines, Florida 33023; telephone: (954) 893-1400; fax: (954) 964-4141; e-mail: mysocata@socata.daher.com; Internet: http://mysocata.com.

(3) You may review copies of the referenced service information at the FAA, Small Airplane Directorate, 901 Locust, Kansas City, Missouri 64106. For information on the availability of this material at the FAA, call (816) 329-4148.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on July 28, 2011.
Steven W. Thompson,
Acting Manager, Small Airplane Directorate, Aircraft Certification Service.

[FR Doc. 2011-20165 Filed 8-12-11; 8:45 am]

BILLING CODE 4910-13-P